AGENCY FOR INTERNATIONAL DEVELOPMENT

48 CFR Parts 701 and 722 and Appendix J

RIN 0412-AA80

Agency for International Development Acquisition Regulation (AIDAR): Agency Warrant Program for Individual Cooperating Country National Personal Services Contractors (CCNPSCs)

AGENCY: U.S. Agency for International Development.

ACTION: Proposed rule; withdrawal.

SUMMARY: The U.S. Agency for International Development (USAID) has decided not to implement the Agency Warrant Program for individual Cooperating Country National Personal Services Contractors and is therefore withdrawing the August 19, 2016 proposed rule amending the Agency for International Development Acquisition Regulation (AIDAR) to incorporate this warrant program into the regulation.

DATES: USAID is withdrawing the proposed rule published on August 19, 2016 (81 FR 55405) as of June 23, 2017.

FOR FURTHER INFORMATION CONTACT: Lyudmila Bond, Telephone: 202-567-4753 or Email: lbond@usaid.gov.

SUPPLEMENTARY INFORMATION: On August 19, 2016 USAID published a proposed rule at 81 FR 55405 revising the Agency for International Development Acquisition Regulation (AIDAR) to incorporate USAID Cooperating Country National Warrant Program into the regulation. The warrant program was intended to address a shortage of U.S. direct-hire contracting officers by delegating limited contracting officer authorities to a select number of Cooperating Country National Personal Services Contractors.

The purpose of this rule withdrawal is to inform the public that USAID will not be publishing a final rule to implement this warrant program.

Dated: June 6, 2017.
Mark Walther,
Acting Chief Acquisition Officer.

[FR Doc. 2017-13297 Filed 6-21-17; 4:15 pm]

BILLING CODE 6116-01-P